DEPARTMENT OF THE INTERIOR

National Park Service

36 CFR Part 7

[NPS-SER-CAHA-21373; PPSECAHAS0, PPMPSPD1Z.YM0000]

RIN 1024-AE33

Special Regulations; Areas of the National Park System, Cape Hatteras National Seashore—Off-Road Vehicle Management

AGENCY: National Park Service, Interior.

ACTION: Proposed rule.

SUMMARY: The National Park Service (NPS) proposes to amend its special regulation for off-road vehicle (ORV) use at Cape Hatteras National Seashore, North Carolina, to revise the times that certain beaches open to ORV use in the morning, extend the dates that certain seasonal ORV routes are open in the fall and spring, and modify the size and location of vehicle-free areas.

Consideration of changes to this special regulation was required by section 3057 of the National Defense Authorization Act for Fiscal Year 2015.

The NPS also proposes to amend this special regulation to allow the Cape Hatteras National Seashore to issue ORV permits that would be valid for different lengths of time than currently exist, and to replace an ORV route designation on Ocracoke Island with a park road to allow vehicle access and pedestrian use of a soundside area without the requirement for an ORV permit.

DATES: Comments must be received by October 21, 2016.

ADDRESSES: You may submit comments, identified by the Regulation Identifier Number (RIN) 1024-AE33, by any of the following methods:

• Electronically: Federal eRulemaking Portal: http://www.regulations.gov. Follow the instructions for submitting comments.

• Hardcopy: Mail or hand-deliver to: Superintendent, Cape Hatteras National Seashore, 1401 National Park Drive, Manteo, North Carolina 27954.

For additional information see Public Participation under SUPPLEMENTARY INFORMATION below.

FOR FURTHER INFORMATION CONTACT: Superintendent, Cape Hatteras National Seashore, 1401 National Park Drive, Manteo, North Carolina 27954. Phone 252-475-9032.

SUPPLEMENTARY INFORMATION:

Background

Description of Cape Hatteras National Seashore

Situated along the Outer Banks of North Carolina, Cape Hatteras National Seashore (Seashore or park) was authorized by Congress in 1937 and established in 1953 as the nation's first national seashore. Consisting of more than thirty thousand acres distributed along approximately 67 miles of shoreline, the Seashore is part of a dynamic barrier island system.

The Seashore contains important wildlife habitat created by dynamic environmental processes. Several species listed under the Endangered Species Act, including the piping plover, rufa subspecies of the red knot, and five species of sea turtles, are found within the park. The Seashore also serves as a popular recreation destination where users participate in a variety of activities.

Authority and Jurisdiction To Promulgate Regulations

In the NPS Organic Act (54 U.S.C. 100101), Congress granted the NPS broad authority to regulate the use of areas under its jurisdiction. The Organic Act authorizes the Secretary of the Interior (Secretary), acting through the NPS, to “prescribe such regulations as the Secretary considers necessary or proper for the use and management of [National Park] System units.” 54 U.S.C. 100751(a).

Off-Road Motor Vehicle Regulation

Executive Order 11644, Use of Off-Road Vehicles on the Public Lands, was issued in 1972 in response to the widespread and rapidly increasing off-road driving on public lands “often for legitimate purposes but also in frequent conflict with wise land and resource management practices, environmental values, and other types of recreational activity.” Executive Order 11644 was amended by Executive Order 11989 in 1977, and together they are jointly referred to in this rule as the “E.O.” The E.O. requires Federal agencies that allow motorized vehicle use in off-road areas to designate specific areas and routes on public lands where the use of motorized vehicles may be permitted. The regulations must also require that the designation of such areas and trails shall be in accordance with the following:

(1) Areas and trails shall be located to minimize damage to soil, watershed, vegetation, or other resources of the public lands.

(2) Areas and trails shall be located to minimize harassment of wildlife or significant disruption of wildlife habitats.

(3) Areas and trails shall be located to minimize conflicts between off-road vehicle use and other existing or proposed recreational uses of the same or neighboring public lands, and to ensure the compatibility of such uses with existing conditions in populated areas, taking into account noise and other factors.

(4) Areas and trails shall not be located in officially designated Wilderness Areas or Primitive Areas. Areas and trails shall be located in areas of the National Park System, Natural Areas, or National Wildlife Refuges and Game Ranges only if the respective agency head determines that off-road vehicle use in such locations will not adversely affect their natural, aesthetic, or scenic values.

The NPS regulation at 36 CFR 4.10(b) implements the E.O. and requires that routes and areas designated for ORV use be promulgated as special regulations and that the designation of routes and areas must comply with 36 CFR 1.5 and E.O. 11644. It also states that ORV routes and areas may be designated only in national recreation areas, national seashores, national lakeshores, and national preserves. This proposed rule is consistent with these authorities and with Section 8.2.3.1 (Motorized Off-road Vehicle Use) of NPS Management Policies 2006, available at: http://www.nps.gov/policy/mp/policies.html.

Recent ORV Management at Cape Hatteras National Seashore

In 2010, the NPS completed the Off-Road Vehicle Management Plan and Environmental Impact Statement (ORV FEIS) for ORV use at the Seashore to guide the management and use of off-road vehicles at the Seashore. As a part of the selected alternative, certain elements of the ORV FEIS were implemented through rulemaking. The Final Rule for ORV management at the Seashore was published in the Federal Register on January 23, 2012 (77 FR 3123) (2012 Final Rule).

On December 19, 2014, the President signed the National Defense Authorization Act for Fiscal Year 2015 (2014 Act). Section 3057 of the 2014 Act requires that the Secretary of the Interior consider three specific changes to the 2012 Final Rule regarding:

• Morning opening times of beaches that are closed to ORV use at night,

• Extending the dates for seasonal ORV routes, and

• The size and location of vehicle-free areas (VFAs).

On February 17, 2016, the NPS published the Consideration of Modifications to the Final Rule for Off-Road Vehicle Management Environmental Assessment (EA). The EA evaluated:

• The times that beach routes open to ORV use in the mornings,

• Extending the dates that seasonal ORV routes would be open in the fall and spring, and

• Modifying the size and location of VFAs.

The EA also considered:

• Issuing ORV permits for different lengths of time,

• Revising some ORV route designations, and

• Providing access improvements for soundside locations on Ocracoke Island.

The EA, which contains a full description of the purpose and need for taking action, scoping, the alternatives considered, maps and the environmental impacts associated with the project may be viewed on the NPS planning Web site at http://parkplanning.nps.gov/caha-orv-ea under the “Document List” link. Public comments on the EA were accepted until March 18, 2016. The NPS reviewed and considered the comments received on the EA when drafting this proposed rule. After the comment period closes on this proposed rule, the NPS will review the comments received on the proposed rule, complete the NEPA process, and publish a final rule.

The Proposed Rule

This proposed rule, pursuant to § 4.10(b), would implement the NPS preferred alternative (Alternative 2) in the EA.

This proposed rule would amend the special regulation for ORV use at the Seashore as it relates to:

• The morning opening times of beaches that are closed to ORV use at night,

• The dates that seasonal ORV routes are open in the fall and spring, and

• The size and location of VFAs.

The proposed rule would also allow the Seashore to issue ORV permits that would be valid for different lengths of time than currently exist, and would revise the status of some ORV routes to allow vehicular access without requiring an ORV permit. This proposed rule also includes some changes made for clarification, such as updating ramp numbers to reflect current conditions. Although the preferred alternative in the EA proposed additional changes to Seashore access, only those described below require a modification to the existing special regulation.

Beach Opening Times

As stated in the preferred alternative in the EA, most ORV routes would continue to open to ORV use at 7:00 a.m. Certain “priority” beach routes could be opened to ORV use earlier than 7:00 a.m., though no earlier than 6:00 a.m. The NPS proposed this change so that ORV users could access the more popular beaches earlier than 7:00 a.m. NPS resource staff would patrol these “priority” beaches before opening so that park resources would be protected even while earlier access is allowed. The NPS is proposing to amend the special regulation at 36 CFR 7.58(c)(12) to state that the priority beaches would open no earlier than 6:00 a.m. Instead of establishing an opening time in the special regulation, beach opening times would be published annually in the Superintendent's Compendium. The proposed rule also slightly edits some of this language for clarity. Moving the beach opening times from the regulation to the Compendium would give the Superintendent some flexibility based on changing conditions at the Seashore and the ability of park staff to patrol and complete resource management inventories on beaches before they are opened to vehicle use.

Dates for Use of Seasonal ORV Routes

The proposed rule would extend the dates for ORV use of seasonally designated routes in front of the villages of Rodanthe, Waves, Salvo, Avon, Frisco, and Hatteras and the Ocracoke Campground by two weeks in the fall and two weeks in the spring, making these seasonal routes open to ORV use from October 15 through April 14. This extension is proposed in areas and at times of the year which would not result in measureable impacts to sensitive wildlife, visitor experience, safety, or workload complexity of park staff.

Size and Location of VFAs

The proposed rule would modify the size and location of VFAs and improve access in some locations. Ramps 2.5 and 59.5 would not be constructed. Ramp 2 would be restored to ORV use, extending the existing ORV route 0.5 miles to the north and providing ORV access to the route from either ramp 4 or ramp 2. Ramp 59 would continue to be open to ORV use, extending the existing year-round ORV route approximately 0.5 miles. The seasonal ORV route at ramp 34 would be extended 1 mile to the north and the seasonal ORV route at ramp 23 would be extended 1.5 miles to the south. The NPS proposes making changes to these particular VFAs because it would slightly increase ORV access on each of the islands without measurably impacting visitor experience, safety, sensitive wildlife species, or workload complexity of park staff.

Permit Durations

The NPS is proposing to remove the specific times established for the duration of ORV permits from the special regulation at § 7.58(c)(2)(iv), and instead control the duration of the permits through the Superintendent's Compendium. As described in the preferred alternative in the EA, existing annual ORV permits would change from being valid for the calendar year of issuance to being valid for one year from the date of issuance. Also, the existing 7-day ORV permit would be replaced by a 10-day ORV permit. Also, changing to a 10-day ORV permit from a 7-day ORV permit could allow many ORV users to access the beaches over two weekends, depending upon when they arrive at the Seashore.

Any future substantive changes to the duration of ORV permits would require the appropriate NEPA compliance.

The NPS intends to continue to recover the costs of administering the ORV permit program under 54 U.S.C. 103104. This requirement will remain in the proposed rule.

Access Improvements—Ocracoke Island

The existing ORV route designation along Devil Shoals Road (also referred to as Dump Station Road) would be removed. No ORV permit would be required to access this location as it would be designated a park road instead of an ORV route. This is an existing dirt road located across North Carolina State Highway 12 from the Ocracoke campground that has been maintained as part of the park's road network. This road meets NPS road design standards as a Class II connector road that provides normal passenger vehicle access to park areas of scenic and recreational interest with a surface type of dirt/gravel. The NPS proposed these changes to allow for limited vehicular soundside access on Ocracoke Island without the requirement to purchase an ORV permit. Unlike the other islands at the Seashore, there is currently no vehicular access to the soundside of Ocracoke Island available without an ORV permit.

Access Improvements—Hatteras Island

The NPS proposes to extend the existing Cape Point bypass route south of ramp 44 by 0.4 miles to the north so that it would join with ramp 44. The NPS is also proposing to extend the existing bypass route by approximately 600 feet to the south. Although this southern extension was not originally part of the preferred alternative in the EA, impacts associated with this proposed 600-foot extension would be similar in nature to those disclosed in the EA for the 0.4-mile extension to the north. As concluded in the EA, impacts associated with the bypass route extension would be negligible at most and would have no impact to wetlands. The NPS proposes extending this existing bypass to provide additional ORV access near Cape Point when the ORV route along the beach is closed for safety or resource protection.

Other Updates

Several changes to the language in the existing rule are proposed for clarification or to reflect existing conditions. Ramp 25.5 is renamed “ramp 25”; ramp 32.5 is renamed “ramp 32”; ramp 47.5 is renamed “ramp 48”; the soundside ORV route at Little Kinnakeet would be changed to begin just west of the Kinnakeet lifesaving structures; and additional details are added to further clarify where existing routes terminate (e.g. the routes adjacent to ramps 63, 48, and 32 do not end exactly at the ramp).

Maps

The proposed changes to routes and ramps are depicted on the maps in the EA (pages 35—41) and are available for review at http://parkplanning.nps.gov/caha-orv-ea.

Compliance With Other Laws, Executive Orders, and Department Policy

Use of Off-Road Vehicles on the Public Lands (Executive Order 11644)

As discussed previously, the E.O. applies to ORV use on federal public lands that is not authorized under a valid lease, permit, contract, or license. Section 3(4) of E.O. 11644 provides that ORV “areas and trails shall be located in areas of the National Park system, Natural Areas, or National Wildlife Refuges and Game Ranges only if the respective agency head determines that off-road vehicle use in such locations will not adversely affect their natural, aesthetic, or scenic values.” Since the E.O. clearly was not intended to prohibit all ORV use everywhere in these units, the term “adversely affect” does not have the same meaning as the somewhat similar terms “adverse impact” or “adverse effect” commonly used in the National Environmental Policy Act of 1969 (NEPA). Under NEPA, a procedural statute that provides for the study of environmental impacts, the term “adverse effect” refers to any effect, no matter how minor or negligible.

Section 3(4) of the E.O., by contrast, does not prescribe procedures or any particular means of analysis. It concerns substantive management decisions, and must instead be read in the context of the authorities applicable to such decisions. The Seashore is an area of the National Park System. Therefore, the NPS interprets the E.O. term “adversely affect” consistent with its NPS Management Policies 2006. These policies require the NPS to allow only “appropriate uses” of parks and to avoid “unacceptable impacts” to park resources or values. The NPS has evaluated this proposed rule and confirmed that it would comply with these policies.

Specifically, this rule would not impede the attainment of the Seashore's desired future conditions for natural and cultural resources as identified in the ORV FEIS. The NPS has determined this rule would not unreasonably interfere with the atmosphere of peace and tranquility, or the natural soundscape maintained in natural locations within the Seashore. Therefore, within the context of the E.O., ORV use on the ORV routes amended by this rule (which are also subject to safety and resource closures and other species management measures that would be implemented under the proposed rule) would not adversely affect the natural, aesthetic, or scenic values of the Seashore.

Section 8(a) of the E.O. requires NPS to monitor the effects of the use of off-road vehicles on lands under its jurisdiction. On the basis of the information gathered, NPS shall from time to time amend or rescind designations of areas or other actions taken pursuant to the E.O. as necessary to further the policy of the E.O. The existing ORV FEIS and Record of Decision identify monitoring and resource protection procedures, and desired future conditions to provide for the ongoing and future evaluation of impacts of ORV use on protected resources. The Park Superintendent would have authority under this rule and under 36 CFR 1.5 to close portions of the Seashore as needed to protect park resources and values, and public health and safety.

Regulatory Planning and Review (Executive Orders 12866 and 13563)

Executive Order 12866 provides that the Office of Information and Regulatory Affairs in the Office of Management and Budget (OMB) will review all significant rules. The Office of Information and Regulatory Affairs has determined that this rule is not significant.

Executive Order 13563 reaffirms the principles of E.O. 12866 while calling for improvements in the nation's regulatory system to promote predictability, to reduce uncertainty, and to use the best, most innovative, and least burdensome tools for achieving regulatory ends. It directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (RFA)

This rule will not have a significant economic effect on a substantial number of small entities under the RFA (5 U.S.C. 601 et seq.). This certification is based on information contained in a report entitled, “Benefit-Cost and Regulatory Flexibility Analyses: Special Regulations of Off-Road Motor Vehicles at Cape Hatteras National Seashore”, available for public review at: http://parkplanning.nps.gov/caha-orv-ea. According to that report, no entities, small or large, are directly regulated by the proposed rule, which regulates visitors' use of ORVs. The courts have held that the RFA requires an agency to perform a regulatory flexibility analysis of small entity impacts only when a rule directly regulates them. Therefore, agencies must assess the impacts on directly regulated entities, but are not required to analyze in a regulatory flexibility analysis the indirect effects from rules on small entities.

Small Business Regulatory Enforcement Fairness Act (SBREFA)

This rule is not a major rule under 5 U.S.C. 804(2) of the SBREFA. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (UMRA)

This rule does not impose an unfunded mandate on state, local, or tribal governments or the private sector of more than $100 million per year. The rule does not have a significant or unique effect on state, local, or tribal governments or the private sector. The designated ORV routes are located entirely within the Seashore, and will not result in direct expenditure by State, local, or tribal governments. This rule addresses public use of NPS lands, and imposes no requirements on other agencies or governments. Therefore, a statement containing the information required by the UMRA (2 U.S.C. 1531 et seq.) is not required.

Takings (Executive Order 12630)

This rule does not effect a taking of private property or otherwise have taking implications under Executive Order 12630. Access to private property located within or adjacent to the Seashore will not be affected, and this rule does not regulate uses of private property. Therefore, a takings implication assessment is not required.

Federalism (Executive Order 13132)

Under the criteria in section 1 of Executive Order 13132, this rule does not have sufficient federalism implications to warrant the preparation of a federalism summary impact statement. This rule only affects use of NPS-administered lands and imposes no requirements on other agencies or governments. A federalism summary impact statement is not required.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian tribes through a commitment to consultation with Indian tribes and recognition of their right to self-governance and tribal sovereignty. We have evaluated this rule under the criteria in Executive Order 13175 and under the Department's tribal consultation policy and have determined that tribal consultation is not required because the rule will have no substantial direct effect on federally recognized Indian tribes.

Paperwork Reduction Act (PRA) (44 U.S.C. 3501 et seq.)

This rule does not contain any new collection of information that requires approval by Office of Management and Budget (OMB) under the PRA of 1995. OMB has approved the information collection requirements associated with NPS Special Park Use Permits and has assigned OMB Control Number 1024-0026 (expires 08/31/2016). An agency may not conduct or sponsor and a person is not required to respond to a collection of information unless it displays a currently valid OMB control number.

National Environmental Policy Act (NEPA)

In accordance with NEPA, the NPS prepared an Environmental Assessment (EA), which was released for public comment on February 17, 2016, for 30 days. A full description of the alternatives that were considered, the environmental impacts associated with the project, public involvement, and other supporting documentation, can be found online at http://parkplanning.nps.gov/caha-orv-ea. The NPS considered public comments made on the EA in drafting this proposed rule. The NPS will evaluate substantive comments received on the proposed rule when developing the decision and the Final Rule.

Effects on the Energy Supply (Executive Order 13211)

This rule is not a significant energy action under the definition in Executive Order 13211. A Statement of Energy Effects is not required.

Clarity of This Rule

We are required by Executive Orders 12866 and 12988, and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that are unclearly written, which sections or sentences are too long, the sections where you feel lists or tables would be useful, etc.

Public Participation

All submissions received must include the agency name and Regulatory Identifier Number (RIN) for this rulemaking, 1024-AE33. All comments received through the Federal eRulemaking portal at http://www.regulations.gov will be available without change. Before including your address, phone number, email address, or other personal identifying information in your comment, you should be aware that your entire comment including your personal identifying information may be made publicly available at any time. While you can ask us in your comment to withhold your personal identifying information, we cannot guarantee that we will be able to do so. To view comments received through the Federal eRulemaking portal, go to http://www.regulations.gov and enter 1024- AE33 in the search box.

Comments submitted through http://www.regulations.gov or submitted by mail must be entered or postmarked before midnight (Eastern Daylight Time) October 21, 2016 Comments submitted by hand delivery must be received by the close of business hours (5 p.m. Eastern Daylight Time) October 21, 2016.

Comments will not be accepted by fax, email, or in any way other than those specified above, and bulk comments in any format (hard copy or electronic) submitted on behalf of others will not be accepted. If you commented on the EA, your comments have already been considered in drafting the proposed rule. Comments should focus on this proposed rule; comments that relate solely to the EA will be untimely and will not be considered.

Drafting Information

The primary authors of this regulation were Russel J. Wilson, Chief Regulations, Jurisdiction and Special Park Uses, National Park Service; and, A.J. North, Regulations Coordinator, National Park Service.

List of Subjects in 36 CFR Part 7

District of Columbia, National Parks, Reporting and recordkeeping requirements.

In consideration of the foregoing, the National Park Service proposes to amend 36 CFR part 7 as follows:

PART 7—SPECIAL REGULATIONS, AREAS OF THE NATIONAL PARK SYSTEM

1. The authority citation for part 7 continues to read as follows:

Authority: 54 U.S.C. 100101, 100751, 320102; Sec. 7.96 also issued under DC Code 10-137 and DC Code 50-2201.07.

2. In § 7.58, revise paragraphs (c)(2)(iv), (c)(9) and (c)(12)(i) to read as follows:

§ 7.58 Cape Hatteras National Seashore.

* * * * *

(c) * * *

(2) * * *

(iv) ORV permits are valid for the dates specified on the permit. The public will be notified of any proposed changes to ORV permit durations through one or more of the methods listed in § 1.7(a) of this chapter.

* * * * *

(9) ORV routes. The following tables indicate designated ORV routes. The following ramps are designated for off-road use to provide access to ocean beaches: 2, 4, 23, 25, 27, 30, 32, 34, 38, 43, 44, 48, 49, 55, 59, 63, 67, 68, 70, and 72. Designated ORV routes and ramps are subject to resource, safety, seasonal, and other closures implemented under § 7.58(c)(10).

(i) Soundside ORV access ramps are described in the table below. For a village beach to be open to ORV use during the winter season, it must be at least 20 meters (66 feet) wide from the toe of the dune seaward to mean high tide line.

(ii) Maps showing designated routes and ramps are available in the Office of the Superintendent and on the Seashore Web site.

Bodie Island—Designated Routes
Year Round | Ramp 2 to 0.2 miles south of ramp 4.
Seasonal: Open September 15 through March 14 | 0.2 miles south of ramp 4 to the eastern confluence of the Atlantic Ocean and Oregon Inlet.
Hatteras Island—Designated Routes
Year Round | 1.5 miles south of ramp 23 to ramp 27.
| Ramp 30 to approximately 0.3 miles south of ramp 32.
| The following soundside ORV access routes from NC Highway 12 to Pamlico Sound between the villages of Salvo and Avon: Soundside ramps 46, 48, 52, 53, 54. The soundside ORV access at Little Kinnakeet would start just to the west of the Kinnakeet lifesaving structures and would continue to the sound.
| Ramp 38 to 1.5 miles south of ramp 38.
| The following soundside ORV access routes from NC Highway 12 to Pamlico Sound between the villages of Avon and Buxton: Soundside ramps 57, 58, 59, and 60.
| 0.4 miles north of ramp 43 to Cape Point to 0.3 miles west of “the hook.”
| Bypass which extends due south from the opening at ramp 44, running continuously behind the dunes until the bypass connects with the beach.
| Interdunal route (“Inside Road”) from intersection with Lighthouse Road (i.e. ramp 44) to ramp 49, with one spur route from the interdunal route to ramp 48.
| Just east of Ramp 48 to east Frisco boundary.
| A soundside ORV access route from Museum Drive to Pamlico Sound near Coast Guard Station Hatteras Inlet.
| Pole Road from Museum Drive to Spur Road to Pamlico Sound, with one spur route, commonly known as Cable Crossing, to Pamlico Sound and four spur routes to the ORV route below.
| Ramp 55 southwest along the ocean beach for 1.6 miles, ending at the intersection with the route commonly known as Bone Road.
Seasonal: Open to ORV use October 15 through April 14 | 0.1 mile south of Rodanthe Pier to 1.5 mile south of ramp 23. 1.0 mile north of ramp 34 to ramp 38 (Avon). East Frisco boundary to west Frisco boundary (Frisco village beach).
| East Hatteras boundary to ramp 55 (Hatteras village beach).
Ocracoke Island—Designated Routes
Year Round | Ramp 59 to just southwest of ramp 63.
| Routes from NC Highway 12 to Pamlico Sound located north of the Pony Pens, commonly known as Prong Road, Barrow Pit Road, and Scrag Cedar Road.
| 1.0 mile northeast of ramp 67 to 0.5 mile northeast of ramp 68.
| 0.4 miles northeast of ramp 70 to Ocracoke inlet.
| From ramp 72 to a pedestrian trail to Pamlico Sound, commonly known as Shirley's Lane.
Seasonal: October 15 through April 14 | 0.5 mile northeast of ramp 68 to ramp 68 (Ocracoke Campground area).
Seasonal: September 15 through March 14 | A route 0.6 mile south of ramp 72 from the beach route to a pedestrian trail to Pamlico Sound. A route at the north end of South Point spit from the beach route to Pamlico Sound.

* * * * *

(12) Night-Driving Restrictions/Hours of ORV Operation.

(i) Hours of operation and night-driving restrictions are listed in the following table:

Hours Of Operation/Night Driving Restrictions
November 16-April 30 | All designated ORV routes are open 24 hours a day.
May 1-September 14 | Designated ORV routes in sea turtle nesting habitat (ocean intertidal zone, ocean backshore, dunes) are closed at 9 p.m. and open no earlier than 6:00 a.m. The Seashore will publish exact opening times on an annual basis.
September 15-November 15 | Designated ORV routes in sea turtle nesting habitat (ocean intertidal zone, ocean backshore, dunes) are closed at 9 p.m. and open no earlier than 6:00 a.m., but the Superintendent may open designated ORV routes, or portions of the routes, 24 hours a day if no turtle nests remain. The Seashore will publish exact opening times on an annual basis.

* * * * *

Dated: August 4, 2016.
Michael Bean,
Principal Deputy Assistant Secretary for Fish and Wildlife and Parks.

[FR Doc. 2016-19844 Filed 8-19-16; 8:45 am]

BILLING CODE 4310-EJ-P